DEPARTMENT OF THE INTERIOR

Fish and Wildlife Service

Draft Safe Harbor Agreement and Application for an Enhancement of Survival Permit for the Ocelot in South Texas

AGENCY: U.S. Fish and Wildlife Service, Interior.

ACTION: Notice of availability; receipt of application.

SUMMARY: Environmental Defense, Inc. (ED) (Applicant) has applied to the U.S. Fish and Wildlife Service (Service) for an enhancement of survival permit under section 10(a)(1)(A) of the Endangered Species Act (Act) of 1973, as amended. The requested permit, which is for a period of 30 years, would authorize the Applicant to issue certificates of inclusion under a Safe Harbor Agreement (SHA) to private landowners who would voluntarily agree to carry out habitat improvements for the Texas ocelot subspecies (Leopardus pardalis albescens). We invite the public to review and comment on the permit application and the associated draft SHA.

DATES: To ensure consideration, written comments must be received on or before March 23, 2006.

ADDRESSES: Persons wishing to review the application, draft SHA, or other related documents may obtain a copy by written or telephone request to Robyn Cobb, U.S. Fish and Wildlife Service, c/o TAMU-CC, 6300 Ocean Drive, USFWS-Unit 5837, Corpus Christi, Texas 78412-5837 (361/994-9005). The application will also be available for public inspection, by appointment only, during normal business hours (8 a.m. to 4:30 p.m.) at the Service's Corpus Christi Office. Comments concerning the application, draft SHA, or other related documents should be submitted in writing to the Field Supervisor at the above address. Please refer to permit number TE-117030-0 when submitting comments. All comments received, including names and addresses, will become a part of the official administrative record and may be made available to the public.

FOR FURTHER INFORMATION CONTACT: Robyn Cobb at the U.S. Fish and Wildlife Service Corpus Christi Office, c/o TAMU-CC, 6300 Ocean Drive, USFWS-Unit 5837, Corpus Christi, Texas 78412-5837 (361/994-9005).

SUPPLEMENTARY INFORMATION: The ocelot was listed as endangered throughout its entire range in 1982. However, this action is proposed for the Texas ocelot subspecies, whose range included much of south, central, and east Texas, and into western Louisiana and Arkansas, as well as much of northern Mexico east of the Sierra Madre Oriental. Habitat can be characterized by dense thornscrub, including a variety of thorny, scrubby vegetation.

Currently, the U.S. population of ocelots is known only from two populations in three counties. The two largest remaining habitat “islands,” Laguna Atascosa National Wildlife Refuge (LANWR) and a private ranch in Willacy County, support a combined total of approximately 50 to 100 ocelots. On-going threats to the ocelot include conversion of habitat to agricultural and residential development uses, vehicle strikes, disease, and genetic inbreeding.

The future existence of the ocelot in south Texas will require a system of interconnected habitat blocks that support sub-populations by enabling interbreeding. The majority of land within the current range of the ocelot in South Texas is privately owned. Therefore, the participation of private landowners is critical to the recovery of this subspecies.

Habitat enhancement activities could cover all, or portions of the following Texas counties: Cameron, Hidalgo, Kenedy, Starr, and Willacy. Habitat enhancement activities could include, but are not limited to, site preparation to facilitate planting and survival of native thornscrub seedlings; planting of native thornscrub seedlings; designing, installing, and maintaining water systems to enhance seedling and sapling survival; and post-planting shredding, prescribed fire, and/or application of herbicides to enhance seedling and sapling survival.

All properties to be enrolled will have a zero baseline. Zero baseline will be any property with less than 50 percent shrub and tree (combined) canopy cover. Properties that exceed 50 percent shrub and tree (combined) canopy cover that are dominated by one species (e.g., huisache (Acacia smalli) or honey mesquite (Prosopis glandulosa)) may also be enrolled as zero baseline. Enrolled properties that exceed 20 acres in extent can include no more than 10 contiguous acres of optimal habitat. Tewes and Everett (1986) classified optimal habitat as 95 percent or greater canopy cover of the shrub layer (Class A); suboptimal habitat as 75 percent to 95 percent canopy cover (Class B); and inadequate cover was 75 percent or less (Class C).

We provide this notice under section 10(c) of the Act (16 U.S.C. 1531 et seq.), the National Environmental Policy Act (42 U.S.C. 4371 et seq.), and its implementing regulations (40 CFR 1506.6).

Geoffrey L. Haskett,
Acting Regional Director, Region 2, Albuquerque, New Mexico.

[FR Doc. E6-2394 Filed 2-17-06; 8:45 am]

BILLING CODE 4310-55-P